DEPARTMENT OF THE INTERIOR

National Park Service

[NPS-WASO-PPFL-LRD-21603; PS.SPPFL0070.00.1.]

Proposed Information Collection; National Park Service Relocation Assistance and Real Property Acquisition Program

AGENCY: National Park Service, Interior.

ACTION: Notice; request for comments.

SUMMARY: We (National Park Service, NPS) will ask the Office of Management and Budget (OMB) to approve the information collection (IC) described below. To comply with the Paperwork Reduction Act of 1995 and as a part of our continuing efforts to reduce paperwork and respondent burden, we invite the general public and other Federal agencies to comment on this IC. We may not conduct or sponsor and a person is not required to respond to a collection unless it displays a currently valid OMB control number.

DATES: Please submit your comment on or before October 11, 2016.

ADDRESSES: Please send your comments on the ICR to Madonna L. Baucum, Information Collection Clearance Officer, National Park Service, 12201 Sunrise Valley Drive, Mail Stop 242, Reston, VA 20192 (mail); or madonna_baucum@nps.gov (email). Please reference “1024-New LRD” in the subject line.

FOR FURTHER INFORMATION CONTACT: Joe Cook, Realty Specialist, National Park Service, Land Resources Division, 1201 I Street NW., Washington, DC 20005; joe_cook@nps.gov (email); or (202) 513-7029 (phone).

SUPPLEMENTARY INFORMATION:

I. Abstract

The National Park Service Organic Act, 54 U.S.C. 100101(a) et seq.), requires that the NPS preserve national parks for the enjoyment, education, and inspiration of this and future generations. A number of NPS units contain privately held lands. In order to preclude incompatible development, protect resources and provide for visitor use and enjoyment, it is sometimes necessary for the NPS to seek to acquire certain private lands or interests therein. The NPS also cooperates with states, local governments, nonprofit organizations and property owners to provide other forms of protection.

As required by the provisions of Public Law 91-646, the Uniform Relocation Assistance and Real Property Acquisition Policies Act of 1970, as amended, NPS provides relocation assistance benefits to all eligible parties displaced by an agency acquisition. The purpose of the Act is to provide for uniform and equitable treatment of persons displaced from their homes, businesses, or farms and to establish uniform and equitable land acquisition policies associated with for Federal and federally assisted programs.

The NPS procedures for acquisition of land or interests therein and for the relocation of occupants are governed by the Act. The NPS proposes to verify eligibility for reimbursement of certain expenses incurred by a property owner incidental to the conveyance of real property to the United States, and to quantify the amount of reimbursement payments through the implementation of proposed Form 10-840.

NPS Form 10-840, “Claim for Reimbursement of Expenses Incidental to Conveyance of Real Property”

The information collected via proposed Form 10-840 includes:

• Contact information, to include name, telephone number, Social Security Number or Taxpayer Identification Number, email address, and complete mailing address;

• Location of property acquired by the agency; and,

• Incidental expenses, to include recording and transfer fees, penalty costs, and allowable taxes paid.

Appeals Process

The appeals procedure is contained in 49 Code of Federal Regulations, part 24.10. The NPS' decision on submitted claims will be final unless, within 60 days of the date of mailing of the decision, a written notice of appeal is mailed to: Director, Office of Hearings and Appeals, Department of the Interior, Washington, DC 20240. The notice of appeal should contain information to identify the action or decision appealed and should give a brief but complete statement of the facts relied upon and the relief desired. A copy of the notice of appeal and any accompanying statements of the reasons for it should be mailed to the official who made the decision.

II. Data

OMB Control Number: 1024-New.

Title: National Park Service Relocation Assistance and Real Property Acquisition Program.

Form(s): NPS Form 10-840, “Claim for Reimbursement of Expenses Incidental to Conveyance of Real Property”.

Type of Request: Existing collection in use without approval.

Description of Respondents: Private individuals; businesses; educational institutions; nonprofit organizations; state, local, and tribal governments.

Respondent's Obligation: Required to obtain or retain benefits.

Frequency of Collection: On occasion.

Activity | Estimated total annual responses | Estimated average completion time (hours) | Estimated total annual burden hours
Form 830 (Individuals) | 170 | .5 | 85
Form 830 (Businesses) | 30 | .5 | 15
Form 830 (State, local, tribal governments) | 1 | .5 | .5
Appeals (Individuals) | 5 | 2 | 10
Appeals (Businesses) | 2 | 12 | 24
Appeals (State, local, tribal governments) | 1 | 12 | 12
Totals | 209 |  | 146.5

Estimated Annual Reporting and Recordkeeping “Non-Hour Cost”: None.

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: August 4, 2016.
Madonna L. Baucum,
Information Collection Clearance Officer, National Park Service.

[FR Doc. 2016-18959 Filed 8-9-16; 8:45 am]

BILLING CODE 4310-EH-P